DEPARTMENT OF AGRICULTURE

Submission for OMB Review; Comment Request

September 3, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Specialty Crop Block Grant Program (SCBGP).

OMB Control Number: 0581-0239.

Summary of Collection: The Specialty Crops Competitiveness Act of 2004, (Pub. L. 108-465) (Act) authorized the Secretary of Agriculture to make grants to States (at the time, defined to mean the 50 States, the District of Columbia, and Commonwealth of Puerto Rico), for each of the fiscal years 2005 through 2009 to be used by State departments of agriculture solely to enhance the competitiveness of specialty crops. These grant funds were previously applied for and awarded to eligible State departments of agriculture under the Specialty Crop Block Grant Program (SCBGP). Therefore, State departments of agriculture can no longer apply for grants under the SCBGP.

Need and Use of the Information: The SCBGP is still in effect because grant periods can be up to three years in length and currently, State departments of agriculture are reporting on previously awarded grants. Data collected is the minimum information necessary to effectively carry out the program, and to fulfill the intent of Section 101 of the Act. The information collection requirements apply only to those State departments of agriculture who voluntarily participate in SCBGP. The information collected is needed to certify that grant participants are complying with applicable program regulations. The Agricultural Marketing Service is reviewing annual and final performance reports, grant amendments, and financial status reports for the SCBGP.

Description of Respondents: State Agricultural Departments.

Number of Respondents: 52.

Frequency of Responses: Reporting: Annually; Recordkeeping.

Total Burden Hours: 351.

Charlene Parker,
Departmental Information Collection Clearance Officer.

[FR Doc. E9-21758 Filed 9-8-09; 8:45 am]

BILLING CODE 3410-02-P